INTERNATIONAL TRADE COMMISSION

[Investigation No. U.S.-Chile FTA-103-029]

Probable Economic Effect of Certain Modifications to the U.S.-Chile FTA Rules of Origin

AGENCY: United States International Trade Commission.

ACTION: Institution of investigation and notice of opportunity to provide written comments.

SUMMARY: Following receipt on May 24, 2016, of a request from the U.S. Trade Representative (USTR), under authority delegated by the President and pursuant to section 103(a) of the United States-Chile Free Trade Agreement Implementation Act (the Act) (19 U.S.C. 3805 note), the Commission instituted investigation No. U.S.-Chile FTA-103-029, Probable Economic Effect of Certain Modifications to the U.S.-Chile FTA Rules of Origin.

DATES: July 11, 2016: Deadline for filing written submissions.

August 24, 2016: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://www.usitc.gov/secretary/edis.htm.

FOR FURTHER INFORMATION CONTACT: Project leader Laura Rodriguez (202-205-3499 or laura.rodriguez@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (https://www.usitc.gov). Persons with mobility impairments who will need special assistance in gaining access to the Commission should contact the Office of the Secretary at 202-205-2000.

SUPPLEMENTARY INFORMATION: Background: In his request letter (received May 24, 2016), the USTR stated that U.S. negotiators have recently reached agreement in principle with representatives of the government of Chile on modifications to the FTA rules of origin. He said that the proposed modifications are the result of determinations that U.S. and Chilean producers are unable to produce rayon filament yarns in commercial quantities in a timely manner. The USTR noted that section 202(o)(2)(B)(i) of the Act authorizes the President, subject to the consultation and layover requirements of section 103(a) of the Act, to proclaim such modifications to the rules of origin provisions as are necessary to implement an agreement with Chile pursuant to Article 3.20.5 of the Agreement. He noted that one of the requirements set out in section 103(a) of the Act is that the President obtain advice regarding the proposed action from the U.S. International Trade Commission.

In the request letter, the USTR asked that the Commission provide advice on the probable economic effect of the modifications on U.S. trade under the FTA, total U.S. trade, and on domestic producers of the affected articles. He asked that the Commission provide its advice at the earliest possible date but not later than three months of receipt of the request. He also asked that the Commission issue, as soon as possible thereafter, a public version of its report with any confidential business information deleted. The products identified in the proposal are certain woven fabrics of artificial filament yarn provided for in subheadings 5408.22-5408.23 of the U.S. Harmonized Tariff Schedule. The request letter and the proposed modification are available on the Commission's Web site at https://www.usitc.gov/research_and_analysis/what_we_are_working_on.htm. As requested, the Commission will provide its advice to USTR by August 24, 2016.

Written Submissions: No public hearing is planned. However, interested parties are invited to file written submissions. All written submissions should be addressed to the Secretary, and should be received not later than 5:15 p.m., July 11, 2016. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Office of the Secretary, Docket Services Division (202-205-1802).

Confidential Business Information: Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR. Additionally, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Issued: June 16, 2016.
Lisa R. Barton,
Secretary to the Commission.

[FR Doc. 2016-14618 Filed 6-20-16; 8:45 am]

BILLING CODE 7020-02-P